DEPARTMENT OF COMMERCE

National Oceanic and Atmospheric Administration

RIN 0648-XD853

Endangered Species; File No. 19288

AGENCY: National Marine Fisheries Service (NMFS), National Oceanic and Atmospheric Administration (NOAA), Commerce.

ACTION: Notice; issuance of permit.

SUMMARY: Notice is hereby given that Dr. Mark Flint, University of Florida, School of Forest Resources and Conservation, 529 Ellsberry Road, Apollo Beach, FL 33572 has been issued a permit to take loggerhead (Caretta caretta), Kemp's ridley (Lepidochelys kempii), green (Chelonia mydas), and hawksbill (Eretmochelys imbricata) sea turtles for purposes of scientific research.

ADDRESSES: The permit and related documents are available for review upon written request or by appointment in the Permits and Conservation Division, Office of Protected Resources, NMFS, 1315 East-West Highway, Room 13705, Silver Spring, MD 20910; phone (301) 427-8401; fax (301) 713-0376.

FOR FURTHER INFORMATION CONTACT: Arturo Herrera or Amy Hapeman, (301) 427-8401.

SUPPLEMENTARY INFORMATION: On March 25, 2015, notice was published in the Federal Register (80 FR 15751) that a request for a scientific research permit to take loggerhead, Kemp's ridley, green, and hawksbill sea turtles had been submitted by the above-named individual. The requested permit has been issued under the authority of the Endangered Species Act of 1973, as amended (ESA; 16 U.S.C. 1531 et seq.) and the regulations governing the taking, importing, and exporting of endangered and threatened species (50 CFR parts 222-226).

Dr. Flint has been issued a five-year permit to conduct research in Tampa Bay, Florida to determine the distribution and health status of the resident population of sea turtles in the region. Up to 200 sea turtles annually may be counted during vessel surveys and subsequently hand captured and have the following procedures performed: measure, weigh, flipper and passive integrated transponder tag, blood sample, lavage, internal and external biopsy sample, laparoscopy and associated transport, and/or ultrasound. The permit is valid until December 31, 2020.

Issuance of this permit, as required by the ESA, was based on a finding that such permit (1) was applied for in good faith, (2) will not operate to the disadvantage of such endangered or threatened species, and (3) is consistent with the purposes and policies set forth in section 2 of the ESA.

Dated: January 5, 2016.
Julia Harrison,
Chief, Permits and Conservation Division, Office of Protected Resources, National Marine Fisheries Service.

[FR Doc. 2016-00293 Filed 1-8-16; 8:45 am]

BILLING CODE 3510-22-P